FEDERAL ELECTION COMMISSION

Sunshine Act Notices; Meeting

AGENCY: Federal Election Commission.

DATE and TIME: Thursday, January 20, 2011, at 10 a.m.

PLACE: 999 E Street, NW., Washington, DC (Ninth Floor)

STATUS: This meeting will be open to the public.

Items To Be Discussed:

Correction and Approval of Minutes for December 16, 2010

Proposed Final Audit Report on the Tennessee Democratic Party

Proposed Final Audit Report on the Tennessee Republican Party Federal Election Account

Proposed Final Audit Report on the Washington State Democratic Central Committee

Draft Notice of Proposed Rulemaking on Independent Expenditures and Electioneering Communications by Corporations and Labor Organizations

Management and Administrative Matters

Individuals who plan to attend and require special assistance, such as sign language interpretation or other reasonable accommodations, should contact Shelley Garr, Deputy Commission Secretary, at (202) 694-1040, at least 72 hours prior to the hearing date.

PERSON TO CONTACT FOR INFORMATION: Judith Ingram, Press Officer, Telephone: (202) 694-1220.

Shelley E. Garr,
Deputy Secretary of the Commission.

[FR Doc. 2011-1163 Filed 1-24-11; 8:45 am]

BILLING CODE 6715-01-M